INTERNATIONAL TRADE COMMISSION

[Investigation No. 337-TA-266 (Rescission)]

Certain Reclosable Plastic Bags and Tubing; Notice of Commission Decision To Institute a Rescission Proceeding and To Rescind the General Exclusion Order; Termination of the Rescission Proceeding

AGENCY: U.S. International Trade Commission.

ACTION: Notice.

SUMMARY: Notice is hereby given that the U.S. International Trade Commission has determined to institute a rescission proceeding and to rescind the general exclusion order issued in the underlying investigation. The rescission proceeding is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On April 29, 1987, the Commission instituted this investigation under section 337 of the Tariff Act, 19 U.S.C. 1337 (“section 337”), based on a complaint filed by Minigrip, Inc. of Orangeburg, New York (“Complainant”). See 52 FR 15568-01, 1987 WL 133865 (Apr. 29, 1987). The complaint, as supplemented, alleges unfair methods of competition and unfair acts in the importation into and sale in the United States of certain reclosable plastic bags and tubing (1) manufactured abroad by a process which, if practiced in the United States, would infringe claims 1-5 of the U.S. Patent 3,945,872 (“the '872 Patent”); and (2) bearing a color line mark allegedly infringing U.S. Trademark Registration No. 946,120 (“the '120 Trademark”). See id. The notice of investigation names twenty (20) respondents, including: C.A.G. Enterprise Pte, Ltd. of Singapore; Chang Won Chemical Co., Ltd. of Seoul, Republic of Korea; Chung Kong Industrial Co., Ltd. of Hong Kong; Euroweld Distributing of Hazlet, New Jersey; Gideons Plastic Industrial Co., Ltd. of Tou Liu, Taiwan; Hogn Ter Product Co., Ltd. of Taipei, Taiwan; Ideal Plastic Industrial Co., Ltd. of Taipei, Taiwan; Insertion Advertising Corp. of New York, New York; Ka Shing Corp. of Mount Vernon, New York; Kwant II of Seoul, Republic of Korea; Lim Tai Chin Pahathet Co. Ltd. of Bangkok, Thailand; Lein Bin Plastics Co., Ltd. of Taipei, Taiwan; Meditech International Co. of Denver, Colorado; Nina Plastic Bags, Inc. of Orlando, Florida; Polycraft Corporation of Pomona, California; Rol-Pak Sdn Bhd, Chin Thye Sdn Bhd of Kuala Lumpur, Malaysia; Siam Import-Export Ltd. of Bangkok, Thailand; Ta Sen Plastic Industrial Co., Ltd. of Taipei, Taiwan; Tech Keung Manufacturing Ltd. of Hong Kong; and Tracon Industries Corp. of Melville, New York. See id. The Office of Unfair Import Investigations is also a party to the investigation. See id.

On October 8, 1987, the presiding administrative law judge (“ALJ”) issued an initial determination granting Complainant's motion to amend the complaint and notice of investigation to add Keron Industrial Co., Ltd. and Daewang International Corp. as respondents. See Order No. 28 (Oct. 8, 1987), unreviewed by, Comm'n Notice (Oct. 29, 1987).

The Commission terminated eight (8) respondents based on settlement, namely, Meditech, Polycraft, Chung Kong, Euroweld, Daewang, Keron, Gideons, and Lien Bin. See Order No. 49 (Nov. 25, 1987), unreviewed by, Comm'n Notice (Dec. 29, 1987). The Commission also found all but two (2) respondents (Chang Won and Kwang ll) in default, namely, Hogn Ter, Insertion, Ka Shing, Nina Plastic, Siam Import, Ta Sen, Teck Keung, Tracon, C.A.G., Lim Tai, Rol-Pak, and Ideal. See Order No. 44 (Nov. 19, 1987), unreviewed by, Comm'n Notice (Dec. 21, 1987); Order No. 56 (Dec. 9, 1987), unreviewed by, Comm'n Notice (Jan. 14, 1988); Order No. 59 (Dec. 24, 1987), unreviewed by, Comm'n Notice (Jan. 25, 1988).

On January 29, 1988, the ALJ issued his final ID finding a violation of section 337. On March 16, 1988, the Commission determined not to review of the ID. See 53 FR 9495, 1988 WL 264423 (March 23, 1988). On April 29, 1988, the Commission issued a general exclusion order prohibiting the entry into the United States, except under license, of (1) reclosable plastic bags and tubing manufactured according to a process which, if practiced in the United States, would infringe claims 1, 3, 4, or 5 of the `872 Patent; and (2) reclosable plastic bags and tubing which infringe the `120 Trademark. See Notice of Issuance of Exclusion Order, 0089 WL 1685278, *1 (Apr. 29, 1988). The Commission did not issue cease and desist orders. See id. at *4.

The '872 Patent expired on March 23, 1993, 17 years after its issuance. The '120 Trademark was cancelled on March 28, 2020.

In view of the expiration of the '872 Patent and the cancellation of the '120 Trademark, and pursuant to the Commission's authority under section 337(k)(1), 19 U.S.C. 1337(k)(1), the Commission has determined to institute a rescission proceeding and to rescind the general exclusion order issued in the underlying investigation. The rescission proceeding is terminated.

The Commission's vote on this determination took place on October 29, 2021.

The authority for the Commission's determination is contained in section 337 of the Tariff Act of 1930, as amended (19 U.S.C. 1337), and in part 210 of the Commission's Rules of Practice and Procedure (19 CFR part 210).

By order of the Commission.
Issued: October 29, 2021.
Lisa Barton,
Secretary to the Commission.

[FR Doc. 2021-24038 Filed 11-3-21; 8:45 am]

BILLING CODE 7020-02-P